DEPARTMENT OF HEALTH AND HUMAN SERVICES

Substance Abuse and Mental Health Services Administration

Agency Information Collection Activities Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0361.

Proposed Project: National Substance Use and Mental Health Services Survey (N-SUMHSS) (OMB No. 0930-0386)—Revision

Under section 505 of the Public Health Service Act (42 U.S.C. 290aa-4), SAMHSA is required to conduct annual collection of data on substance use and mental health. Selected information collected from the N-SUMHSS is also published on SAMHSA's FindTreatment.gov for persons seeking treatment for mental and substance use disorders in the United States. FindTreatment.gov is authorized by the 21st Century Cures Act (Pub. L. 114-255, section 9006; 42 U.S.C. 290bb-36d).

In 2021, SAMHSA combined the National Survey of Substance Abuse Treatment Services (N-SSATS) and the National Mental Health Services Survey (N-MHSS) into the N-SUMHSS to reduce the burden on facilities offering both substance use and mental health services, optimize government resources to collect data, and enhance the quality of data collected on the treatment facilities.

The N-SUMHSS is the most comprehensive national source of data on substance use and mental health treatment facilities. On an annual basis, the N-SUMHSS collects information on the facility location, characteristics, and utilization of substance use and mental health treatment services. The survey also collects client counts on individuals receiving services at these facilities. There is an increasing need to collect and maintain data on current and accurate numbers of clients in treatment at the local level for communities to assess capacity and estimate resource requirements. This information on substance use and mental health services has assisted with communities to better respond to life changing events, (i.e. hurricane) and plan for service demands in the event of a natural disaster (i.e. earthquakes).

SAMHSA also maintains the Inventory of Substance Use and Mental Health Treatment Facilities (I-TF) (previously known as the Inventory of Behavioral Health Services [I-BHS]). The I-TF is a master list of all known substance use and mental health treatment facilities in the United States. It also serves as the universe population for the N-SUMHSS.

SAMHSA is requesting OMB approval of revisions to the N-SUMHSS and I-TF related data collections, to include changes to the following instruments:

N-SUMHSS Questionnaire

• Q1a: added to clarify if facilities reported providing mental health treatment services in Q1 also provide substance use treatment services, to help respondents understand how to respond accurately and ensure appropriate survey module(s) are completed.

• A1a: add the word “health” to clarify and improve survey item accuracy.

• A8a. and QA9: add “for opioid use disorder” and “for alcohol use disorder” in the existing question to clarify clients using MAT for specific substance use disorder and to improve survey item accuracy.

• B7a: add the following new survey response options to the existing question to improve survey response option comprehensiveness:

○ Add “Prochlorperazine” to the existing list of first-generation antipsychotics.

○ Add “Inhalation” and “Don't Know” to the existing route of administration options for first-generation antipsychotics.

○ Add new response options of “Sublingual,” “Transdermal,” and “Don't Know” to the existing route of administration options for second-generation antipsychotics.

○ Add “Other first-generation antipsychotic #1 Specify, #2 Specify, and #3 Specify” and “Other second-generation antipsychotic #1 Specify, #2 Specify, and #3 Specify” to the existing list of first-generation and second-generation antipsychotics.

• B11: add the word “currently” to the question to improve survey item accuracy. Change the word “persons” to “clients” to increase survey item consistency between survey modules.

• B19: update the full title and add the acronyms “CSBG” and “MHBG” of the two existing Federal grants to improve survey item accuracy. Add “other” to clarify and help respondents better comprehend what is being asked.

• C6a., C7a., C8., C8a: Update the locator reference from the “Behavioral Health Treatment Services Locator” to FindTreatment.gov and the reference years associated with reporting client count data.

N-SUMHSS Between Cycle Questionnaire

Since the Mini N-SUMHSS is a subset of the N-SUMHSS, all proposed changes to the N-SUMHSS (listed above) apply to the Mini N-SUMHSS.

N-SUMHSS VA Supplement

SAMHSA proposes a new N-SUMHSS VA Supplement to collect information annually on suicide-related services, standardized suicide screening and evaluation tools, clients at high risk of suicide, referrals and follow-ups from VA substance use and mental health facilities. VA facilities providing only substance use treatment service will answer 7 questions (Attachment C). VA facilities providing only mental health treatment service will answer 12 questions (Attachment D). VA facilities providing both substance use and mental health treatment services will answer 19 questions.

N-SUMHSS EHR Supplement

SAMHSA proposes a new N-SUMHSS EHR Supplement to collect information once from facilities providing substance use and/or mental health treatment services on health IT adoption, use, and interoperability. There are 15 questions in the proposed new N-SUMHSS EHR Supplement.

I-TF Facility Registration Application Form

• Update the locator reference to “FindTreatment.gov,” and the reference years associated with reporting client count data.

• Replace existing “substance abuse” term with a clinically accurate, non-stigmatizing language for “substance use,” throughout the form, to help reduce stigma and support treatment for substance use disorders. This revision aligns with the current edition of The Diagnostic and Statistical Manual of Mental Disorders (5th ed., American Psychiatric Association, 2013), where “abuse” has been replaced by “use.” This revision also aligns with the White House Office of National Drug Control Policy 2017 Memo on “Changing Federal Terminology regarding Substance Use and Substance Use Disorders.”

Augmentation Screener Questionnaire

• Replace existing “substance abuse” term with “substance use.”

• Update the locator reference to “FindTreatment.gov.”

• Update the reference of “Mental Health Survey” and “Substance Abuse Survey” to “N-SUMHSS” to improve accuracy.

• Revise the statue citation to be more specific on the level of protection of the information collected from the Augmentation Screener Questionnaire.

• Update the OMB number.

I-TF Online State Add/Update Form

• Update the reference of I-BHS to I-TF throughout the form.

• Update the new SAMHSA logo design throughout the form.

• Replace existing “substance abuse” term with “substance use.”

• Add “Intake 1a and Intake 2a” fields to the “Facility Information” section and add “Director's Email” field to the “Director Information” section, to capture more comprehensive information about the new facilities and facility directors.

• Move existing data fields “State Approved,” “State Reviewed,” “National Directory Eligible,” and “Facility Surveys” to create a new section “Directory/Locator Eligibility” and add a new “Date Reviewed” field to improve response efficiency and accuracy.

• Move existing “Old-ITF ID” and add “Parent I-TF ID” to the “Other Facilities Details” section to improve response efficiency.

The estimated annual burden for the N-SUMHSS and I-TF activities is as follows:

Information collection title | Number of respondents | Responses per respondent | Total responses | Hours per response (in hours) | Total burden hours | Average hourly wage | Total annual cost
N-SUMHSS Questionnaire (either SU or MH) | 32,000 | 1 | 32,000 | 0.83 | 26,560 | $48.72 | $1,294,003
N-SUMHSS Questionnaire (both SU and MH) | 5,000 | 1 | 5,000 | 1.28 | 6,400 | 48.72 | 311,808
N-SUMHSS Between Cycle Questionnaire | 1,500 | 1 | 1,500 | 0.75 | 1,125 | 48.72 | 54,810
N-SUMHSS VA Supplement | 800 | 1 | 800 | 0.05 | 40 | 48.72 | 1,949
N-SUMHSS EHR Supplement * | 37,000 | 1 | 37,000 | 0.12 | 4,440 | 48.72 | 216,317
I-TF Facility Registration Application Form | 1,500 | 1 | 1,500 | 0.08 | 120 | 26.71 | 3,205
Augmentation Screener Questionnaire | 1,300 | 1 | 1,300 | 0.08 | 104 | 26.71 | 2,778
I-TF Online State Add Update Form | 61 | 50 | 3,050 | 0.08 | 244 | 26.71 | 6,517
Totals |  |  | 82,150 |  | 39,033 |  | 1,891,387
* The N-SUMHSS EHR Supplement will be administered one time during the three-year period.

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2023-25918 Filed 11-22-23; 8:45 am]

BILLING CODE 4162-20-P